DEPARTMENT OF THE INTERIOR

Geological Survey

[GX24AC0000EXP00]

Advisory Committee for Science Quality and Integrity Establishment; Request for Nominations

AGENCY: U.S. Geological Survey, Department of the Interior

ACTION: Notice.

SUMMARY: In accordance with the Federal Advisory Committee Act (FACA) of 1972, the U.S. Geological Survey (USGS) is establishing and seeking nominations for the Advisory Committee for Science Quality and Integrity (Committee). The Committee will advise the Secretary of the Interior and the Director of the USGS on matters related to the responsibilities of the USGS Office of Science Quality and Integrity (OSQI) including monitoring and enhancing the integrity, quality, and health of all USGS science through executive oversight and development of strong practices, policy, and supporting programs. Functional areas in the OSQI include Scientific Integrity; Science Quality; Fundamental Science Practices; Office of Tribal Relations; Youth and Education in Science (YES); Science, Technology, Engineering, and Mathematics (STEM); Laboratories; Postdoctoral Research; and Research and Equipment Development Grade Evaluations of USGS scientists.

DATES: Comments regarding the establishment of this Committee must be submitted no later than March 12, 2024. Nominations for the Committee must be submitted by April 11, 2024.

ADDRESSES: You may submit comments and/or nominations by any of the following methods: Mail comments and/or nominations to Joanne C. Taylor, U.S. Geological Survey, Office of Science Quality and Integrity, 12201 Sunrise Valley Drive, Mailstop 911, Reston, VA 20192; or email comments and/or nominations to jctaylor@usgs.gov.

FOR FURTHER INFORMATION CONTACT: Joanne C. Taylor, Designated Federal Officer (DFO), by U.S. mail at the U.S. Geological Survey, 12201 Sunrise Valley Drive, Mailstop 911, Reston, VA 20192; by telephone at 703-648-6837; or by email at jctaylor@usgs.gov.

SUPPLEMENTARY INFORMATION: The Committee is established under the authority of the Secretary of the Interior (Secretary) and regulated by the Federal Advisory Committee Act, as amended (5 U.S.C. ch. 10). The Committee's duties are strictly advisory and will include advising on: (a) Identification of key scientific quality and integrity processes to advance the USGS mission. (b) Effective mechanisms for engaging the next-generation USGS workforce and others through the YES program and with other Federal agencies in STEM and underserved communities. (c) The nature and effectiveness of mechanisms to provide oversight of science quality within USGS laboratories. (d) Mechanisms that may be employed by the USGS to ensure high standards of science quality and integrity in its programs and products.

The Committee will meet approximately one to two times per year. The Committee will consist of no more than 15 members appointed by the Secretary who represent the diversity of this nation's constituencies, and include the following interests:

• Local and State governments;

• Non-governmental organizations;

• Native American, Native Alaskan, and Native Hawaiian organizations, including representatives from Tribal governments and Tribal colleges;

• Academia; and

• Other stakeholders and sectors, including private industry, that make use of USGS science including, but not limited to, areas including laboratory sciences, natural resource managers, natural hazards protections, and wildlife organizations.

The Committee may include scientific experts and will include rotating representation from one or more local, Tribal, State, regional, and/or national organizations.

Nominations should include a resume providing an adequate description of the nominee's qualifications, including information that would enable the Department of the Interior (DOI) to make an informed decision regarding meeting the membership requirements of the Committee and to permit a potential member to be contacted.

Members of the Committee serve without compensation. However, while away from their homes or regular places of business, Committee and subcommittee members engaged in Committee or subcommittee business that the DFO approves may be allowed travel expenses, including per diem in lieu of subsistence, as authorized by 5 U.S.C. 5703, in the same manner as persons employed intermittently in Federal Government service.

Public Disclosure of Comments: Before including your address, phone number, email address, or other personally identifiable information (PII) in your comment, you should be aware that your entire comment—including your PII—may be made publicly available at any time. While you may ask us in your comment to withhold your PII from public review, we cannot guarantee that we will be able to do so.

Certification Statement: I hereby certify that the Advisory Committee for Science Quality and Integrity is necessary, in the public interest, and is in connection to the responsibilities of the DOI, USGS, under the President's Memorandum on Restoring Trust in Government Through Scientific Integrity and Evidence-Based Policymaking, January 27, 2021; the DOI policy on Integrity of Scientific and Scholarly Activities (305 DM 3); and the USGS policy on Scientific Integrity (SM 500.25).

Authority: 5 U.S.C. ch. 10.

Deb Haaland,
Secretary of the Interior.

[FR Doc. 2024-03829 Filed 2-23-24; 8:45 am]

BILLING CODE 4338-11-P